DEPARTMENT OF TRANSPORTATION

Surface Transportation Board

[Docket No. FD 35599]

Santa Teresa Southern Railroad, LLC—Operation Exemption—Rail Line of Verde Logistics Railroad, LLC at Santa Teresa, Dona Ana County, NM

Santa Teresa Southern Railroad, LLC (STSR), a noncarrier, has filed a verified notice of exemption under 49 CFR 1150.31 to operate approximately 12,000 feet of rail line owned by Verde Logistics Railroad, LLC (Verde). The rail line extends between a point of connection with Union Pacific Railroad Company (UP) at or near milepost 1280 on UP's Lordsburg Subdivision and terminus at Strauss Road ¹ at or near Santa Teresa, Dona Ana County, N.M. STSR states that it has entered into an Operating Agreement with Verde for STSR to provide common carrier rail service to shippers and receivers located in the Santa Teresa Logistics Industrial Park.

¹ STSR states that Strauss Road has been designed but has not yet been constructed.

This transaction is related to a concurrently filed verified notice of exemption in Gregory B. Cundiff, et al.—Continuance in Control Exemption—Santa Teresa Southern Railroad, LLC, Docket No. FD 35600, wherein Mr. Gregory B. Cundiff and others seek Board approval to continue in control of STSR upon STSR's becoming a Class III rail carrier.

According to STSR, the transaction is expected to be consummated no sooner than 30 days after filing its notice with the Board. The earliest this transaction can be consummated is March 22, 2012, the effective date of the exemption (30 days after the notice of exemption was filed).

STSR certifies that its projected annual revenues as a result of this transaction will not exceed $5 million and will not result in its becoming a Class I or Class II rail carrier.

If the verified notice contains false or misleading information, the exemption is void ab initio. Petitions to revoke the exemption under 49 U.S.C. 10502(d) may be filed at any time. The filing of a petition to revoke will not automatically stay the effectiveness of the exemption. Petitions to stay must be filed no later than March 15, 2012 (at least 7 days before the exemption becomes effective).

An original and 10 copies of all pleadings, referring to Docket No. FD 35599, must be filed with the Surface Transportation Board, 395 E Street SW., Washington, DC 20423-0001. In addition, a copy of each pleading must be served on Thomas F. McFarland, 208 South LaSalle Street, Suite 1890, Chicago, IL 60604-1112.

Board decisions and notices are available on our Web site at www.stb.dot.gov.

Decided: March 5, 2012.
By the Board, Rachel D. Campbell, Director, Office of Proceedings.
Jeffrey Herzig,
Clearance Clerk.

[FR Doc. 2012-5660 Filed 3-7-12; 8:45 am]

BILLING CODE 4915-01-P